DEPARTMENT OF TRANSPORTATION

Federal Aviation Administration

14 CFR Part 71

[Docket No. FAA-2024-2444; Airspace Docket No. 24-ASW-7]

RIN 2120-AA66

Proposed Establishment of Area Navigation (RNAV) Routes Q-162 and Q-166; Southwest United States.

AGENCY: Federal Aviation Administration (FAA), DOT.

ACTION: Notice of proposed rulemaking (NPRM).

SUMMARY: This action proposes to establish Area Navigation (RNAV) routes Q-162 and Q-166 in the Southwest United States. The proposed new RNAV routes would provide alternative routing for air traffic travelling between southwest Arizona and western Texas in response to severe weather events during the spring and summer months. Additionally, the new RNAV routes would expand the availability of RNAV routing in support of transitioning the National Airspace System (NAS) from a ground-based to satellite-based system for navigation.

DATES: Comments must be received on or before December 23, 2024.

ADDRESSES: Send comments identified by FAA Docket No. FAA-2024-2444 and Airspace Docket No. 24-ASW-7 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11J, Airspace Designations and Reporting Points, and subsequent amendments can be viewed online at www.faa.gov/air_traffic/publications/. You may also contact the Rules and Regulations Group, Policy Directorate, Federal Aviation Administration, 600 Independence Avenue SW, Washington, DC 20597; telephone: (202) 267-8783.

FOR FURTHER INFORMATION CONTACT: Colby Abbott, Rules and Regulations Group, Office of Policy, Federal Aviation Administration, 600 Independence Avenue SW, Washington, DC 20597; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify the National Airspace System (NAS) as necessary to preserve the safe and efficient flow of air traffic.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office of the Operations Support Group, Central Service Center, Federal Aviation Administration, 10101 Hillwood Parkway, Fort Worth, TX 76177.

Incorporation by Reference

United States Area Navigation Routes are published in paragraph 2006 of FAA Order JO 7400.11, Airspace Designations and Reporting Points, which is incorporated by reference in 14 CFR 71.1 on an annual basis. This document proposes to amend the current version of that order, FAA Order JO 7400.11J, dated July 31, 2024, and effective September 15, 2024. These updates would be published in the next update to FAA Order JO 7400.11. That order is publicly available as listed in the ADDRESSES section of this document.

FAA Order JO 7400.11J lists Class A, B, C, D, and E airspace areas, air traffic service routes, and reporting points.

Background

During the spring and summer months each year, the FAA experiences severe dry-line thunderstorm weather activity across central Arizona and New Mexico, and western Texas that impact air traffic operations transiting that area. When the severe weather activity events occur, the Albuquerque Air Route Traffic Control Center (ARTCC) issues radar vectors to affected aircraft to minimize the operational impact to the operators and to the NAS as a whole.

To further mitigate severe weather-related impacts for aircraft operations flying through the southwest United States during the spring and summer months, the FAA is proposing to establish two new RNAV routes, Q-162 and Q-166, within Albuquerque ARTCC airspace. The proposed Q-162 route would transition west to east across the northern portion of Albuquerque ARTCC's airspace and the proposed Q-166 route would transition west to east across the southern portion of Albuquerque ARTCC's airspace. Instrument flight rules pilots with RNAV-equipped aircraft would be able to navigate north or south of the severe weather events and affected areas without further contributing to air traffic control (ATC) workload associated with sequencing and separating affected aircraft via radar vectors around the severe weather events and affected areas.

Having experienced a 24 percent increase of enroute air traffic through Albuquerque ARTCC's airspace in the last 10 years, the proposed routes would support the increased enroute operations and establish much-needed published holding information that would increase safety for both pilots and controllers by reducing phraseology/frequency congestion and depicting predictable holding locations during days that require restraints as a result of system overload due to a high volume of traffic. Moreover, the proposed Q-routes would add structure for overflight air traffic in concert with new Phoenix Terminal Radar Approach Control (TRACON) and Tucson TRACON procedures when the traditional route structure is inadequate.

The Proposal

The FAA is proposing an amendment to Title 14 Code of Federal Regulations (14 CFR) part 71 to establish RNAV routes Q-162 and Q-166 in the southwest United States. The proposed new RNAV Q-routes are described below.

Q-162: Q-162 is a proposed new route that would extend between the HAHAA, AZ, Waypoint (WP), located approximately 20 nautical miles (NM) northwest of the Flagstaff, AZ, Very High Frequency Omnidirectional Range (VOR)/Distance Measuring Equipment (VOR/DME) and the AGGIY, TX, WP, located approximately 36 NM northeast of the Panhandle, TX, VOR/Tactical Air Navigation (VORTAC). This Q-route would provide a routing alternative along the northern portion of Albuquerque ARTCC airspace between the Flagstaff, AZ, area and the Borger, TX, area when severe weather events impact the high altitude enroute structure through central Arizona and New Mexico, and western Texas.

Q-166: Q-166 is a proposed new route that would extend between the MOHAK, AZ, Fix, located approximately 32 NM east of the Bard, CA, VORTAC and the MRTHN, TX, WP, located approximately 55 NM southeast of the Fort Stockton, TX, VORTAC. This Q-route would also provide a routing alternative along the southern portion of Albuquerque ARTCC airspace between the Wellton, AZ, area and the Longfellow, TX, area when severe weather events impact the high altitude enroute structure through central Arizona and New Mexico, and western Texas.

This proposal to establish RNAV routes Q-162 and Q-166 would reduce air traffic control (ATC) sector workload and complexity, reduce pilot-to-controller communication requirements, and increase NAS safety and capacity in areas effected by severe weather events in the southwest United States. These new RNAV Q-routes would also assist ATC when non-radar procedures are required and provide additional RNAV enroute structure supporting the FAA's NextGen efforts to make flying safer, more efficient, and more predictable within the NAS.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11J, Airspace Designations and Reporting Points, dated July 31, 2024, and effective September 15, 2024, is amended as follows:

Paragraph 2006 United States Area Navigation Routes.

* * * * *

Q-162 HAHAA, AZ to AGGIY, TX [New]
HAHAA, AZ | WP | (Lat. 35°27′21.83″ N, long. 111°51′43.96″ W)
Gallup, NM (GUP) | VORTAC | (Lat. 35°28′33.60″ N, long. 108°52′21.41″ W)
DRICC, NM | WP | (Lat. 35°41′21.20″ N, long. 105°22′08.78″ W)
MIRME, NM | WP | (Lat. 35°47′00.72″ N, long. 103°50′31.88″ W)
AGGIY, TX | WP | (Lat. 35°48′20.71″ N, long. 101°28′38.83″ W)

* * * * *

Q-166 MOHAK, AZ to MRTHN, TX [New]
MOHAK, AZ | FIX | (Lat. 32°46′33.04″ N, long. 113°58′19.55″ W)
Gila Bend, AZ (GBN) | VORTAC | (Lat. 32°57′22.53″ N, long. 112°40′27.38″ W)
Stanfield, AZ (TFD) | VORTAC | (Lat. 32°53′09.08″ N, long. 111°54′31.44″ W)
OLIIN, AZ | FIX | (Lat. 32°03′45.69″ N, long. 110°11′23.06″ W)
GRNNT, NM | WP | (Lat. 31°53′00.00″ N, long. 108°07′00.00″ W)
SWIMS, TX | WP | (Lat. 31°50′35.65″ N, long. 106°35′10.22″ W)
El Paso, TX (ELP) | VORTAC | (Lat. 31°48′57.28″ N, long. 106°16′54.78″ W)
FNLAY, TX | WP | (Lat. 31°10′24.00″ N, long. 105°20′29.00″ W)
TRQSE, TX | WP | (Lat. 31°01′00.41″ N, long. 105°05′22.81″ W)
Marfa, TX (MRF) | VOR/DME | (Lat. 30°17′54.14″ N, long. 103°57′17.12″ W)
MRTHN, TX | WP | (Lat. 30°04′59.00″ N, long. 102°38′47.00″ W)

* * * * *

Issued in Washington, DC, on October 31, 2024.
Brian Eric Konie,
Manager (A), Rules and Regulations Group.

[FR Doc. 2024-25706 Filed 11-6-24; 8:45 am]

BILLING CODE 4910-13-P